DEPARTMENT OF JUSTICE

Antitrust Division

Notice Pursuant to the National Cooperative Research and Production Act of 1993—Naval Surface Technology & Innovation Consortium

Notice is hereby given that, on April 10, 2024, pursuant to section 6(a) of the National Cooperative Research and Production Act of 1993, 15 U.S.C. 4301 et seq. (“the Act”), Naval Surface Technology & Innovation Consortium (“NSTIC”) has filed written notifications simultaneously with the Attorney General and the Federal Trade Commission disclosing changes in its membership. The notifications were filed for the purpose of extending the Act's provisions limiting the recovery of antitrust plaintiffs to actual damages under specified circumstances. Specifically, Advanced Armor Research Group (AARG) LLC, Fredericksburg, VA; Advanced Simulation Technology, Inc. (ASTi), Herndon, VA; AI Signal Research, Inc., Huntsville, AL; Alkemix Corp, Laguna Hills, CA; Axiom Consulting Group LLC, Winter Garden, FL; BAE Systems Technology Solutions & Services, Inc., Rockville, MD; Barrow Wise Consulting, LLC, Rockville, MD; Decision Technologies, Inc., Arlington, VA; GaN Corporation, Huntsville, AL; Genesis Codes Inc., Menlo Park, CA; GIRD Systems, Inc., Cincinnati, OH; HEBI Robotics, Inc., Pittsburgh, PA; Mantis Composites, Inc., San Luis Obispo, CA; Mosaic ATM, Inc., Leesburg, VA; NuWaves Engineering, Middletown, OH; Orion's Belt Engineering, Inc., Morrison, CO; Palaemus Oceanic, LLC, Wendell, NC; Pallas Industries, Inc., Arlington, VA; Saronic Technologies, Inc., Austin, TX; Simulation Systems Technologies, Inc., Voorhees, NJ; Swarmbotics AI, Inc., Scottsdale, AZ; Textum OPCO LLC, Belmont, NC; The Glimpse Group, Inc., New York, NY; Thunderbolt Software LLC, Mullica Hill, NJ; Unmanned Systems Inc, dba Albers Aerospace, McKinney, TX; VPI Technology, a division of Ludlum Measurements, Draper, UT; and Wireless Research Center of North Carolina, Wake Forest, NC, have been added as parties to this venture.

No other changes have been made in either the membership or planned activity of the group research project. Membership in this group research project remains open, and NSTIC intends to file additional written notifications disclosing all changes in membership.

On October 8, 2019, NSTIC filed its original notification pursuant to section 6(a) of the Act. The Department of Justice published a notice in the Federal Register pursuant to section 6(b) of the Act on November 12, 2019 (84 FR 61071).

The last notification was filed with the Department on January 9, 2024. A notice was published in the Federal Register pursuant to section 6(b) of the Act on March 13, 2024 (89 FR 18440).

Suzanne Morris,
Deputy Director Civil Enforcement Operations, Antitrust Division.

[FR Doc. 2024-14311 Filed 6-27-24; 8:45 am]

BILLING CODE 4410-11-P